DEPARTMENT OF LABOR

Office of the Secretary

Submission for OMB Review: Comment Request

January 24, 2007.

The Department of Labor (DOL) has submitted the following public information collection request (ICR) to the Office of Management and Budget (OMB) for review and approval in accordance with the Paperwork Reduction Act of 1995 (Pub. L. 104-13, 44 U.S.C. chapter 35). A copy of this ICR, with applicable supporting documentation, may be obtained from RegInfo.gov at http://www.reginfo.gov/public/do/PRAMain or by contacting Darrin King on 202-693-4129 (this is not a toll-free number) / e-mail: king.darrin@dol.gov.

Comments should be sent to Office of Information and Regulatory Affairs, Attn: OMB Desk Officer for the Employee Benefits Security Administration (EBSA), Office of Management and Budget, Room 10235, Washington, DC 20503, Telephone: 202-395-7316 / Fax: 202-395-6974 (these are not toll-free numbers), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employee Benefits Security Administration.

Type of Review: Extension without change of currently approved collection.

Title: Summary Plan Description Requirements Under ERISA.

OMB Number: 1210-0039.

Type of Response: Third party disclosure.

Affected Public: Private Sector: Business or other for-profit and Not-for-profit institutions.

Estimated Number of Respondents: 3,200,000.

Estimated Number of Annual Responses: 93,457,000.

Estimated Total Burden Hours: 262,000.

Estimated Total Annualized capital/startup costs: $0.

Estimated Total Annual Costs (operating/maintaining systems or purchasing services): $257,914,000.

Description: Section 104(b)(1) of the Employee Retirement Security Act of 1974 (ERISA) requires the administrator of an employee benefit plan to furnish each plan participant and each beneficiary receiving benefits under the plan a copy of the plan's summary plan description (SPD) within 90 days after an individual becomes a participant and (in the case of a beneficiary) within 90 days after an individual first receives benefits, or, if later, within 120 days after the plan first becomes subject to Part 2 of Title I of ERISA. Section 104(b)(1) further specifies that an updated SPD must be furnished subsequently every fifth year, integrating all plan amendments made within such five-year period. The information required to be contained in the SPD is set forth in section 102(b) of ERISA.

If a plan is amended to make a material modification in its terms or to change the information required to be contained in the SPD (other than a material reduction in covered services or benefits under a group health plan), section 104(b)(1) requires the plan administrator to furnish participants and beneficiaries receiving benefits a summary of the material modifications (SMM) within 210 days following the end of the plan year in which the change was adopted. Section 104(b)(1) separately provides that, in the case of any modification or change that is a “material reduction in covered services or benefits provided under a group health plan,” the plan must provide a summary of such material reduction (SMR) not later than 60 days after the adoption of the modification or change, unless the plan routinely provides summaries of modifications or changes at regular intervals of not more than 90 days.

Section 109(c) of ERISA grants the Secretary of Labor the authority to prescribe the form and content of the SPD, as well as other documents required to be furnished or made available to plan participants and beneficiaries receiving benefits under a plan.

The Department has promulgated regulations governing the content and furnishing of SPDs, SMMs, and SMRs at 29 CFR 102-2 (Style and Format of Summary Plan Descriptions); 29 CFR 2520.102-3 (Contents of Summary Plan Descriptions); 29 CFR 2520.102-4 (Option for Different Summary Plan Descriptions); 29 CFR 2520.2520.104b-1 (Disclosure); 29 CFR 2520.104b-2 (Summary Plan Descriptions); 29 CFR 104b-3 (Summary of Material Modifications to the Plan and Changes in the Information Required to be Included in the Summary Plan Description); and 29 CFR 104b-4 (Alternative Methods of Compliance for Furnishing the Summary Plan Description and Summaries of Material Modifications of a Pension Plan to a Retired Participant, a Separated Participant, and a Beneficiary Receiving Benefits). These regulations set standards for the content of these disclosure documents, the methods of furnishing that will satisfy the statutory disclosure requirements, and alternative methods of compliance. In particular, regulations at 29 CFR 2520.104b-1(c) specifically describe the circumstances under which the administrator of an employee benefit plan may furnish required disclosure documents, including the SPD/SMM/SMR, through electronic media.

The Department's regulations contain information collections that constitute mandatory third-party disclosure requirements applicable to the majority of ERISA-covered pension and welfare benefit plans. The Department has determined that these information collections are necessary in order to ensure the participants and beneficiaries in employee benefit plans covered under ERISA receive adequate information about the benefits due to them and their rights under the plans.

The information collections covered by the subject regulations are necessary to ensure that participants and beneficiaries are adequately and timely informed about their rights and benefits under their plans. The SPD, together with the revelant SMMs and SMRs, constitutes the single most important source of information about a plan for the plan participants, and, if properly updated through SMMs and SMRs, it provides participants and beneficiaries with complete knowledge about how to manage their benefits, including how to file benefit claims, what rights they may have under different situations, under what circumstances benefits can be lost, whom to contact about benefits, and many other essential matters. In order to insure that participants and beneficiaries receive this information, the regulations require SPDs to be written in language calculated to be understood by the average plan participant and to be provided through a method that ensures receipt. ERISA also requires that the information in the SPD be kept current. This is accomplished through the use of the SMM or SMR, which inform plan participants and beneficiaries about material plan changes, and the requirement for periodic updated SPDs.

Darrin A. King,
Acting Departmental Clearance Officer.

[FR Doc. E7-1387 Filed 1-29-07; 8:45 am]

BILLING CODE 4510-29-P